DEPARTMENT OF TRANSPORTATION

Research and Special Programs Administration

Office of Hazardous Materials Safety; Notice of applications for exemptions

AGENCY: Research and Special Programs Administration, DOT.

ACTION: List of applications for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before May 20, 2002.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the application (see Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on April 11, 2002.
R. Ryan Posten,
Exemptions Program Officer, Office of Hazardous Materials Exemptions and Approvals.

New Exemptions
Application No. | Docket No. | Applicant | Regulation(s) affected | Nature of exemption thereof
12966-N |  | Scientific Cylinder Corporation, Englewood, CO | 49 CFR (e)(8), (e)(15)(vi) and (e)(19), 173.34(e)(1), (e)(3), (e)(5), (e)(6), (e)(7) | To authorize the transportation in commerce of DOT-3AL cyclinders manufactured from 6351 alloy which have been examined by ultrasonic inspection in lieu of the internal visual test. (modes 1, 2, 3, 4)
22967-N |  | Reilly Industries, Inc., Indianapolis, IN | 49 CFR 172.446, 172.560, 173.213 | To authorize the transportation in commerce of fused solid coal tar enamel in non-DOT specification open-top or closed-top sift proof metal packagings when the amounts meet or exceed the reportable quantity. (modes 1, 2, 3)
12969-N |  | Arrowhead Industrial Services Inc., Graham, NC | 49 CFR 173.301(h), 173.302, 173.306(d)(3) | To authorize the transportation in commerce of non-DOT specification cyclinders containing Division 2.2 material overpacked in strong outside packaging for transporting to remote test sites. (mode 1)
12970-N |  | IMR Corporation Tulsa, OK | 49 CFR 172.202(a)(1) | To authorize the transportation in commerce of limited quantities of hazardous material with alternative shipping name on shipping papers. (mode 1)
2972-N |  | Voltaix, Inc., North Branch, NJ | 49 CFR 173.301(j) | To authorize the transportation in commerce of non-DOT specification cylinders for export containing various compressed gases without pressure relief devices. (modes 1, 3)
2978-N |  | Genesis Environmental, Ltd., McKeesport, PA | 49 CFR 172.101 Col. 8(b) & 8(c), 173.197 | To authorize the transportation in commerce of solid regulated medical waste in non-DOT specification packaging consisting of a bulk outer packaging and a non-bulk inner packaging. (mode 1)
2979-N |  | Medical Microwave, Inc., Livington, NJ | 49 CFR 172.101 Col. 8(b) & 8(c), 173.197 | To authorize the transportation in commerce of solid regulated medical waste in non-DOT specification packaging consisting of a bulk outer packaging and a non-bulk inner packaging. (mode 1)
29782-N |  | Arthur L. Fleener, Ames, IA | 49 CFR 175.320 | To authorize the transportation in commerce of Division 1.1 explosives, which are forbidden for shipment by passenger-carrying aircraft to remote areas when no other means of transportation is available. (mode 5)

[FR Doc. 02-9413 Filed 4-17-02; 8:45 am]

BILLING CODE 4910-60-M